DEPARTMENT OF TRANSPORTATION

Federal Aviation Administration

Public Notice for Waiver of Aeronautical Land-Use Assurance, Houlton International Airport, Houlton, ME

AGENCY: Federal Aviation Administration (FAA), DOT.

ACTION: Request for Public Comments. Notice of intent of waiver with respect to land.

SUMMARY: The FAA is requesting public comment on the Town of Houlton's request to dispose of a portion of airport property (two parcels consisting of 2 acres each known as 108 and 136 White Settlement Road, Houlton, Maine) no longer needed for aeronautical use, as shown on the Airport Layout Plan. The properties requested for disposition are each improved with privately owned residences. The airport leases the underlying land to the homeowners. There appear to be no impacts to the airport by allowing the disposal of the property. The land was transferred from the federal government as Surplus Property by Quitclaim Deed dated under July 14, 1947 and Supplemental Quitclaim Deed dated July 31, 1948.

Proceeds from the sale of the airport property will be used for Airport purposes.

DATES: Comments must be received on or before October 22, 2001.

ADDRESSES: Documents are available for review by appointment by contacting Charles Upton, Director of Community Development at 21 Water Street, Houlton, Maine, Telephone 207-532-7113 and by contacting Donna R. Witte, Federal Aviation Administration, 16 New England Executive Park, Burlington, Massachusetts, Telephone 781-238-7624.

FOR FURTHER INFORMATION CONTACT: Donna R. Witte at the Federal Aviation Administration, 12 New England Executive Park, Burlington, Massachusetts 01803, Telephone 781-238-7624.

SUPPLEMENTARY INFORMATION: Section 125 of The Wendell H. Ford Aviation Investment and Reform Act for the 21st Century (AIR 21) requires the FAA to provide an opportunity for public notice and comment to the “waiver” or “modification” of a sponsor's Federal obligation to use certain airport property for aeronautical purposes.

Issued in Burlington, Massachusetts on September 10, 2001.
Vincent A. Scarano,
Manager, Airports Division, New England Region.

[FR Doc. 01-23567 Filed 9-20-01; 8:45 am]

BILLING CODE 4910-13-M